DEPARTMENT OF LABOR

Employment and Training Administration

Non-Electronic Filing of Applications for Permanent and Temporary Foreign Labor Certification

AGENCY: Employment and Training Administration, Labor.

ACTION: Notice.

SUMMARY: The Employment and Training Administration (ETA) announces administrative changes in the locations where future non-electronic applications must be filed under the permanent foreign labor certification program and temporary foreign labor certification programs administered by the ETA's Office of Foreign Labor Certification (OFLC).

DATES: This Notice is effective on June 1, 2008. Beginning June 16, 2008, applications and attestations filed non-electronically with the incorrect National Processing Center or the National OFLC will be returned to the filer for proper submission.

ADDRESSES:

Atlanta NPC: U.S. Department of Labor, Employment and Training Administration, Atlanta National Processing Center, Harris Tower, 233 Peachtree Street, NE., Suite 410, Atlanta, Georgia 30303, telephone: (404) 893-0101, facsimile: (404) 893-4642, help desk e-mail: plc.atlanta@dol.gov.

Chicago NPC: U.S. Department of Labor, Employment and Training Administration, Chicago National Processing Center, 844 North Rush Street, 12th Floor, Chicago, Illinois 60611, telephone: (312) 886-8000, facsimile: (312) 353-3352, help desk e-mail: plc.chicago@dol.gov.

OFLC National Office: Temporary Programs Manager, Office of Foreign Labor Certification, U.S. Department of Labor, 200 Constitution Avenue, NW., Room C-4312, Washington, DC 20210, telephone: (202) 693-3010. The above telephone and facsimile numbers are not toll-free.

FOR FURTHER INFORMATION CONTACT: William L. Carlson, PhD., Administrator, Office of Foreign Labor Certification, U.S. Department of Labor, 200 Constitution Avenue, NW., Room C-4312, Washington, DC 20210, telephone: (202) 693-3010 (this is not a toll-free number).

SUPPLEMENTARY INFORMATION:

I. Background

The OFLC provides national leadership and policy guidance, and develops regulations and administrative procedures to carry out the responsibilities of the Secretary of Labor under the Immigration and Nationality Act (INA) concerning foreign workers seeking admission to the United States in order to work under the labor certification programs authorized by the INA. In December 2004, OFLC opened two National Processing Centers (NPCs), one each located in Atlanta and Chicago, as part of a long-term strategy to streamline, re-engineer, and centralize labor certification processes that historically were fragmented, duplicative, lengthy, and unduly burdensome. These Centers currently process labor certification applications filed by, or on behalf of, employers seeking to employ foreign workers in the U.S. under the permanent labor certification program and temporary nonimmigrant H-2A and H-2B programs, including certain applications which have required special handling. In addition, the National OFLC receives and processes labor certification applications for certain other classes of temporary nonimmigrant programs, such as those for D-1 crewmembers performing longshore work, emergency boilermakers, professional athletes, and H-1C nurses in health professional shortage areas. Employers file many of the forms and applications under such programs with the Department of Labor electronically, but some forms and applications continue to be filed non-electronically.

The purpose of this Notice is to update the filing instructions for labor certification applications in the permanent and temporary labor certification programs, in light of the Department's continuing efforts to make its processing of applications as efficient and effective as is appropriate. Further, this Notice announces the Department's decision to centralize the processing of permanent applications in the Atlanta NPC and the processing of temporary program applications in the Chicago NPC. Labor certification applications filed by, or on behalf of, employers in the following programs will be affected by this Notice:

A. Immigrant Program

• Permanent Labor Certification Program

Certain employment-based immigrant programs provide a means for employers to employ foreign nationals to work permanently in the United States. Before filing an immigrant petition with the Department of Homeland Security (DHS) to sponsor a foreign worker for employment in certain employment-based immigrant visa categories, employers must first apply with the Secretary of Labor for a certification that: (1) There are not sufficient U.S. workers who are able, willing, qualified, and available to perform the work and (2) employment of the foreign worker will not adversely affect the wages and working conditions of similarly employed U.S. workers. 8 U.S.C. 1182(a)(5)(A); 20 CFR part 656.

B. Nonimmigrant Programs

• D-1 Temporary Program

The D-1 nonimmigrant program provides a means for U.S. employers to import foreign nationals on a temporary basis as crewmembers to perform longshore activities at U.S. ports, including locations in the State of Alaska. Before filing a D-1 petition for nonimmigrant work with the DHS, an employer must first file with the Secretary of Labor an attestation as to certain criteria required of the employer and the job opportunity. 8 U.S.C. 1101(a)(15)(D)(i) and 1288; 20 CFR part 655, subparts F and G.

• H-1B Temporary Program

The H-1B nonimmigrant program provides a means for U.S. employers to import foreign nationals on a temporary basis to perform services in a specialty occupation or as a fashion model. Before filing an H-1B petition for a nonimmigrant worker with the DHS, an employer must first file with the Secretary of Labor a labor condition application as to certain criteria required of the employer and the job opportunity. 8 U.S.C. 1101(a)(15)(H)(i)(b) and 1182(n); 20 CFR part 655, subparts H and I.

• H-1B1 Temporary Program

The H-1B1 nonimmigrant program provides a means for U.S. employers to import nationals of Chile and Singapore to perform services in a specialty occupation. Before filing an H-1B1 petition for a nonimmigrant worker with DHS, an employer must first file with the Secretary of Labor an attestation as to certain criteria required of the employer and the job opportunity. 8 U.S.C. 1101(a)(15)(H)(i)(b1) and 1182(t); 20 CFR part 655, subparts H and I.

• E-3 Temporary Program

The E-3 nonimmigrant program provides a means for U.S. employers to import foreign nationals of Australia to perform services in a specialty occupation. Before filing an E-3 petition for a nonimmigrant worker with DHS, an employer must first file with the Secretary of Labor an attestation as to certain criteria required of the employer and the job opportunity. 8 U.S.C. 1101(a)(15)(E)(iii) and 1182(t); 20 CFR part 655, subparts H and I.

• H-1C Temporary Program

The H-1C nonimmigrant program provides a means for certain facilities to import foreign workers on a temporary basis to perform services as registered nurses in health professional shortage areas. Before filing an H-1C petition for a nonimmigrant worker with DHS, an employer must first file with the Secretary of Labor an attestation as to certain criteria required of the facility and the job opportunity. 8 U.S.C. 1101(a)(15)(H)(i)(c) and 1182(m); 20 CFR part 655, subparts L and M.

• H-2A Temporary Labor Certification Program

The H-2A nonimmigrant program provides a means for U.S. employers to employ foreign workers on a temporary or seasonal basis to perform agricultural labor or services of a temporary or seasonal nature. Before filing an H-2A petition for a nonimmigrant worker with DHS, an employer must first apply with the Secretary of Labor for a certification that: (1) There are not sufficient U.S. workers who are able, willing, qualified, and available to perform the labor or services; and (2) employment of the foreign worker will not adversely affect the wages and working conditions of similarly employed U.S. workers. 8 U.S.C. 1101(a)(15)(H)(ii)(a) and 1188; 20 CFR part 655, subpart B; see also 29 CFR part 501.

• H-2B Temporary Labor Certification Program

The H-2B nonimmigrant program provides a means for U.S. employers to employ foreign workers on a temporary basis to perform non-agricultural services or labor, if unemployed U.S. workers are unavailable. Before filing an H-2B petition for nonimmigrant worker with DHS, an employer (other than in Guam) must first apply with the Secretary of Labor or the Governor of Guam for a certification that: (1) U.S. workers capable of performing the temporary labor or services are not available; and (2) employment of the foreign worker will not adversely affect the wages and working conditions of similarly employed U.S. workers. 8 U.S.C. 1101(a)(15)(H)(ii)(b) and 1184(c)(1); and 20 CFR part 655, subparts A and C; see also 8 CFR 214.2(h)(6).

II. Administrative Changes to Filing Locations

The Department is announcing administrative changes in the locations where future applications must be filed under the permanent labor certification program and certain temporary foreign labor certification programs administered by the OFLC. The Atlanta NPC will receive all applications for permanent labor certification under the Program Electronic Review Management (PERM) System, and the Chicago NPC will receive all applications for temporary labor certification under the programs as identified below. Beginning on the effective date of this Notice, the National OFLC will no longer receive any foreign labor certification applications. Centralizing the filing of labor certification applications and specializing each NPC will increase operational efficiencies in each program, improve customer service that reduces confusion with respect to where permanent and temporary labor certification applications should be filed, enhance efforts to combat fraud and abuse within and across each program, and promote greater consistency and uniformity in the adjudication of labor certification applications.

For the first 15 calendar days after the effective date of this Notice, applications and attestations filed with the incorrect NPC or OFLC National Office will be forwarded to the correct NPC. However, beginning Monday, June 16, 2008, applications and attestations filed with the incorrect NPC or OFLC National Office will be returned to the filer for proper filing.

A. Application Filings With the Atlanta NPC

Permanent Labor Certification Program

General: The Department strongly encourages employers to file PERM applications using the Permanent Online System at http://www.plc.doleta.gov. Effective June 1, 2008, employers who do not wish to file online must mail their PERM applications directly to the Atlanta NPC.

Professional Athletes: There are special procedures for the permanent employment of immigrant professional athletes. Effective June 1, 2008, employers must file PERM applications under the special procedures for professional athletes directly with the Atlanta NPC.

B. Application Filings With the Chicago NPC

1. D-1 Temporary Program

General: Effective June 1, 2008, employers must file Attestations for D-1 Nonimmigrant Crewmembers performing longshore activities directly with the Chicago NPC.

2. H-1B, H-1B1, and E-3 Temporary Nonimmigrant Programs

General: Except as authorized below, employers must continue to file H-1B, H-1B1, and E-3 Labor Condition Applications (LCAs) using the LCA Online System at http://www.lca.doleta.gov. Effective June 1, 2008, employers with physical disabilities authorized by the OFLC National Office to file LCAs using U.S. mail must file directly with the Chicago NPC.

3. H-1C Temporary Program

General: Effective June 1, 2008, employers must file Attestations for H-1C Nonimmigrant Nurses directly with the Chicago NPC.

4. H-2A Temporary Labor Certification Program

General: Effective June 1, 2008, employers must file applications for H-2A temporary labor certification concurrently with the Chicago NPC and the State Workforce Agency (SWA) serving the area of intended employment. If a fixed-site employer has one or more worksites in the same area of intended employment, and the area of intended employment lies in the jurisdiction of more than one SWA, the employer must file a single application concurrently with the Chicago NPC and the SWA in the State where the work will begin.

5. H-2B Temporary Labor Certification Program

General: Employers must continue to file applications for H-2B temporary labor certification (including those filed for tree planting and related reforestation activities) with the SWA serving the area of intended employment. If an employer has one or more worksites in the same area of intended employment (i.e., Metropolitan Statistical Area), and the area of intended employment lies in the jurisdiction of more than one SWA, the employer may file a single application with the SWA in the State where the work will begin. However, for all applications filed with the SWA on or after June 1, 2008, the SWA must send completed applications to the Chicago NPC.

i. Logging: Employers must continue to file applications with their respective SWAs for temporary labor certification for the logging industry, i.e., Maine, New Hampshire, New York, or Vermont SWA. However, for all applications filed with the SWA on or after June 1, 2008, the SWA must send the completed applications directly to the Chicago NPC.

ii. Entertainers: Employers must continue to file applications for H-2B temporary labor certification with the SWA Offices Specializing in Entertainment (OSEs) in Austin, New York, or Sacramento. After processing, the SWA OSE must continue to send all completed applications to the Chicago NPC.

iii. Emergency boilermaker applications and professional athletes: Effective June 1, 2008, employers must file applications for H-2B temporary labor certification for emergency boilermakers and professional athletes directly with the Chicago NPC.

III. Administrative Changes in Requesting Withdrawals

Beginning June 1, 2008, all requests for withdrawals of PERM applications must be submitted to the Atlanta NPC. All requests for withdrawals of LCAs, labor certifications for H-2A or H-2B, or H-1C attestations that cannot be made electronically must be submitted to the Chicago NPC.

Authority: Employment and Training Order No. 2-05, June 22, 2005; 70 FR 39386 (July 7, 2005).

Signed in Washington, DC, this 25th day of February, 2008.
Douglas F. Small,
Deputy Assistant Secretary, Employment and Training Administration.

[FR Doc. E8-4119 Filed 3-4-08; 8:45 am]

BILLING CODE 4510-FP-P